DEPARTMENT OF HOMELAND SECURITY

Coast Guard

33 CFR Part 117

[Docket No. USCG-2015-0273]

Drawbridge Operation Regulation, York River; Yorktown and Gloucester Point, VA

AGENCY: Coast Guard, DHS.

ACTION: Notice of deviation from drawbridge regulation.

SUMMARY: The Coast Guard has issued a temporary deviation from the operating schedule that governs the draw of the Coleman Memorial Bridge (US 17/George P. Coleman Memorial Swing Bridge) across the York River, mile 7.0, between Gloucester Point and Yorktown, VA. This deviation is necessary to facilitate maintenance work on the moveable spans on the Coleman Memorial Bridge. This temporary deviation allows the drawbridge to remain in the closed to navigation position.

DATES: This deviation is effective from 7 a.m. on May 3, 2015 to 5 p.m. on July 19, 2015.

ADDRESSES: The docket for this deviation, [USCG-2015-0273] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Terrance Knowles, Bridge Administration Branch Fifth District, Coast Guard; telephone (757) 398-6587, email Terrance.A.Knowles@uscg.mil. If you have questions on reviewing the docket, call Cheryl Collins, Program Manager, Docket Operations, (202) 366-9826.

SUPPLEMENTARY INFORMATION: The Virginia Department of Transportation, who owns and operates this swing bridge, has requested a temporary deviation from the current operating regulation set out in 33 CFR 117.1025, to facilitate maintenance of the moveable spans on the structure.

Under the regular operating schedule, the Coleman Memorial Bridge, mile 7.0, between Gloucester Point and Yorktown, VA, opens on signal except from 5 a.m. to 8 a.m. and 3 p.m. to 7 p.m. Monday through Friday, except Federal holidays, shall remain closed to navigation. The Coleman Memorial Bridge has vertical clearances in the closed position of 60 feet above mean high water.

Under this temporary deviation, the drawbridge will be closed to navigation from 7 a.m. to 5 p.m. each day on: Sunday May 3, 2015 with an inclement weather date on Sunday May 10, 2015; Sunday June 7, 2015 with an inclement weather date on Sunday June 14, 2015; And Sunday July 12, 2015 with an inclement weather date on Sunday July 19, 2015. The bridge will operate under normal operating schedule at all other times. Emergency openings cannot be provided. There are no alternate routes for vessels transiting this section of the York River. Vessels able to pass under the bridge in the closed position may do so at anytime and are advised to proceed with caution. All other vessels may pass before 7 a.m. and after 5 p.m.

The York River is used by a variety of vessels including military, tugs, and recreational vessels. The Coast Guard has carefully coordinated the restrictions with these waterway users. The Coast Guard will also inform additional waterway users of the bridge closure periods through our Local and Broadcast Notices to Mariners so that vessels can arrange their transits and minimize any impacts caused by the temporary deviation.

In accordance with 33 CFR 117.35(e), the drawbridge must return to its regular operating schedule immediately at the end of the effective period of this temporary deviation. This deviation from the operating regulations is authorized under 33 CFR 117.35.

Dated: April 8, 2015.
James L. Rousseau,
Bridge Program Manager, Fifth Coast Guard District.

[FR Doc. 2015-09039 Filed 4-20-15; 8:45 am]

BILLING CODE 9110-04-P